DEPARTMENT OF THE INTERIOR

Office of Surface Mining Reclamation and Enforcement

Final Petition Evaluation Document/Environmental Impact Statement on Fall Creek Falls, Tennessee

AGENCY: Office of Surface Mining Reclamation and Enforcement, Interior.

ACTION: Notice of extension.

SUMMARY: On March 3, 2000, the Office of Surface Mining Reclamation and Enforcement (we or OSM) made available a final petition evaluation document/environmental impact statement (PED/EIS) for a petition to designate certain lands in and near Fall Creek Falls State Park and Natural Area as unsuitable for all surface coal mining operations. The land is located in Van Buren and Bledsoe Counties, Tennessee. We prepared the PED/EIS to assist the Secretary of the Interior in making a decision on the petition. Governing regulations at 40 CFR 1506.10(b)(2) require that no decision on the petition be made until 30 days after the PED/EIS is made available to the public. We are extending the prescribed wait period by 30 days.

DATES: The prescribed time period is extended to May 3, 2000; therefore, the decision by the Secretary of the Interior will not be made prior to May 4, 2000.

ADDRESSES: You may obtain a copy of the final PED/EIS by contacting Beverly Brock at the address and telephone number listed under FOR FURTHER INFORMATION CONTACT. A copy of the final PED/EIS is available for inspection at that address, and also at the Bledsoe and Van Buren County Clerk's offices.

FOR FURTHER INFORMATION CONTACT: Beverly Brock, Supervisor, Technical Group, Office of Surface Mining, 530 Gay Street, S.W., Suite 500, Knoxville, Tennessee 37902. Telephone: (865) 545-4103, ext. 146. E-Mail: bbrock@osmre.gov.

SUPPLEMENTARY INFORMATION: We have been petitioned by Save Our Cumberland Mountains, Tennessee Citizens for Wilderness Planning, and 49 citizens to designate the watershed and viewshed of Fall Creek Falls State Park and Natural Area, Tennessee, as unsuitable for all types of surface coal mining operations.

We prepared the final PED/EIS in accordance with Section 522(d) of the Surface Mining Control and Reclamation Act of 1977 (SMCRA) and Section 102(2)(c) of the National Environmental Policy Act of 1969 (NEPA). We have analyzed the petitioners' proposed action of designating the entire petition area as unsuitable for surface coal mining operations and four alternative actions ranging from denying the petition in whole in designating certain portions of the petition area as unsuitable for mining.

In preparing the final PED/EIS, we revised the draft PED/EIS in response to comments received during the public comment periods. These comments and OSM's responses to them are included in the final PED/EIS.

The PED/EIS was made available on March 3, 2000. See 65 FR 11575 and 65 FR 11604. We have received a request to extend the prescribed wait period by 30 days and by this notice we are extending the wait period through May 3, 2000. No decision will be made by the Secretary of the Interior prior to May 4, 2000. When the decision is made, we will make it available to the public.

Dated: March 15, 2000.
Mary Josie Blanchard,
Assistant Director, Program Support.

[FR Doc. 00-7208 Filed 3-23-00; 8:45 am]

BILLING CODE 4310-05-M